DEPARTMENT OF THE TREASURY

United States Mint

Pricing Changes for 2016 United States Mint Products

AGENCY: United States Mint, Department of the Treasury.

ACTION: Notice.

SUMMARY: The United States Mint is announcing pricing changes for some 2016 products. Please see the table below.

Product | 2016 Retail price
United States Mint Proof Set® | $31.95
United States Mint Silver Proof Set® | 52.95
United States Mint Uncirculated Set® | 26.95
United States Mint Presidential $1 Coin Proof Set™ | 17.95
Presidential $1 Coin Uncirculated Set™ | 14.95
Annual Uncirculated Dollar Coin Set | 45.95
Presidential $1 Three-Coin Set—P | 11.95
Presidential $1 Three-Coin Set—D | 11.95

FOR FURTHER INFORMATION CONTACT: Ann Bailey, Products Manager, Numismatic and Bullion; United States Mint; 801 9th Street NW., Washington, DC 20220; or call 202-354-7500.

Authority: 31 U.S.C. 5111, 5112, 5132, & 9701.

Dated: January 13, 2016.
Richard A. Peterson,
Deputy Director for Manufacturing and Quality, United States Mint.

[FR Doc. 2016-00887 Filed 1-19-16; 8:45 am]

BILLING CODE 4810-37-P